DEPARTMENT OF JUSTICE

National Institute of Justice

[OJP (NIJ) Docket No. 1790]

Law Enforcement Mental Health and Wellness Application Software Market Survey

AGENCY: National Institute of Justice (NIJ), Office of Justice Programs, Justice.

ACTION: Notice of request for information.

SUMMARY: The National Institute of Justice (NIJ) is soliciting information for use in an upcoming Criminal Justice Testing and Evaluation Consortium (CJTEC) report that will provide a landscape view of application software for mental health and wellness in the law enforcement community. The report will highlight the vendors/developers creating mental health and wellness application software products (apps) directed to law enforcement end users and other first responders. The report will also consider these mental health and wellness apps in terms of the broader context of the rapidly evolving marketplace for fitness and health and wellness products for consumer and medical applications.

DATES: Emailed responses must be received (and mailed responses postmarked) by 5:00 p.m. Eastern Time on May 10, 2021.

ADDRESSES: Responses to this request may be submitted electronically by email to Blaide Woodburn at bwoodburn.contractor@rti.org with the subject line “Law Enforcement Mental Health and Wellness Application Software Market Survey Federal Register Response.” Responses may also be sent by mail to the following address: Criminal Justice Testing and Evaluation Consortium (CJTEC), ATTN: Blaide Woodburn, Law Enforcement Mental Health and Wellness Application Software Market Survey Federal Register Response, RTI International, P.O. Box 12194, 3040 E Cornwallis Road, Research Triangle Park, NC 27709-2194.

FOR FURTHER INFORMATION CONTACT: For more information on this market survey, please contact Matt Mecray (CJTEC) by telephone at 207-829-6084 or mmecray@rti.org . For more information on the NIJ CJTEC, visit https://nij.ojp.gov/funding/awards/2018-75-cx-k003 and view the description, or contact Steven Schuetz (NIJ) by telephone at 202-514-7663 or at steven.schuetz@usdoj.gov. Please note that these are not toll-free telephone numbers.

SUPPLEMENTARY INFORMATION: Information sought: CJTEC is seeking information on products, such as application software and other technologies, that can help the law enforcement community monitor and manage their own mental health and wellness. Specifically, the team is seeking technologies that fit one or more of these categories:

• Products specifically developed for the use of the law enforcement and criminal justice community

• Products specifically developed for first responders or individuals in analogous high-stress work environments

• Products designed as consumer/corporate mental health and wellness tools but are applicable to the law enforcement community

Usage: Information provided in response to this request may be published in a landscape report on mental health and wellness application software for law enforcement. This RFI is intended to solicit important general information from product developers, which may lead to later discussions to help complete a technical specifications table about the product that will be referenced in the report.

CJTEC is seeking a response from technology vendors/developers that includes:

1. Name and description of product

2. The type of product (application software or other technology-enabled solution)

3. Who this product was created for (law enforcement/criminal justice community, first responders, general employees, or other)

4. Overview of product features and literature supporting concepts behind the application software

5. Research studies on efficacy of the application software

6. User testimonials

7. Photo/screenshot of the product

8. Contact information for a future conversation (name, role, email, phone number)

An independent response should be submitted for each product that respondents would like CJTEC to consider in their landscape report. NIJ encourages respondents to provide information in common file formats, such as Microsoft Word, pdf, or plain text. Each response should include contact information.

Jennifer Scherer,
Acting Director and Principal Deputy Director, National Institute of Justice.

[FR Doc. 2021-06026 Filed 3-23-21; 8:45 am]

BILLING CODE 4410-18-P